DEPARTMENT OF DEFENSE

Department of the Army

Notice of Availability of the Final Environmental Impact Statement (FEIS) for Training Range and Garrison Support Facilities Construction and Operation at Fort Stewart, GA

AGENCY: Department of the Army, DoD.

ACTION: Notice of Availability (NOA).

SUMMARY: The Department of the Army announces the availability of an FEIS to analyze the environmental and socioeconomic impacts resulting from the proposed construction and operation of 12 range projects and two garrison support facilities at Fort Stewart, Georgia.

DATES: The waiting period for the FEIS will end 30 days after the publication of an NOA in the Federal Register by the U.S. Environmental Protection Agency.

ADDRESSES: For further information regarding the FEIS, please contact Mr. Charles Walden, Project Manager, Directorate of Public Works, Prevention and Compliance Branch, Environmental Division, 1550 Frank Cochran Drive, Building 1137-A, Fort Stewart, Georgia 31314-4928 or via e-mail at: Charles.Walden4@us.army.mil.

FOR FURTHER INFORMATION CONTACT: Ms. Dina McKain, Public Affairs Office, at (912) 435-9874 during normal business hours.

SUPPLEMENTARY INFORMATION: To meet the needs of Soldiers at Fort Stewart, additional ranges and garrison support facilities are required. This Final EIS examines the potential environmental and socioeconomic impacts of the construction and operation of 12 ranges (a Multipurpose Machine Gun Range, an Infantry Platoon Battle Course, a Known Distance Range, two Modified Record Fire Ranges, a Qualification Training Range, an Infantry Squad Battle Course, a Fire and Movement Range, a Digital Multipurpose Training Range, a 25 Meter Zero Range, a Combat Pistol Range, and a Convoy Live-Fire Course and associated engagement boxes) and two garrison support facilities (a Sky Warrior Unmanned Aerial System (UAS) facility and a 10th Engineering Battalion Complex) to be constructed over a 4-year time period. It also examines potential impacts to surrounding lands and/or local communities.

In addition to consideration of a No Action Alternative (Alternative A), under which the construction and operation of the ranges and facilities would not take place, the FEIS analyzed two action alternatives. Alternative B includes project sites which predominantly utilize footprints of existing ranges, limit construction and restrictions to existing maneuver terrain, are located in relatively close proximity to the cantonment area to reduce unit transit time, and have fewer overall environmental impacts. Alternative C includes sites that are not predominantly pre-existing range sites and generally are located at greater distances from the cantonment area. These locations generally have a higher level of environmental impacts. After consideration of all anticipated operational and environmental impacts, the Army has selected Alternative B as its preferred alternative.

Impacts were analyzed for a wide range of environmental resource areas including, but not limited to, air quality, noise, water resources, biological resources (to include protected species), cultural resources, socioeconomics, infrastructure (utilities and transportation), land use, and solid and hazardous materials/waste, as well as cumulative environmental effects. No significant impacts are anticipated on any environmental resources. Moderate adverse impacts have been identified for soils, water quality, protected species, timber resources, wildland fire, and noise. Adverse impacts to other resource areas were negligible or minor.

The Final EIS is available at local libraries surrounding Fort Stewart and may also be accessed at http://www.Fortstewart-mmp.eis.com.

Dated: July 28, 2010.
Addison D. Davis, IV,
Deputy Assistant Secretary of the Army (Environment, Safety and Occupational Health).

[FR Doc. 2010-19987 Filed 8-12-10; 8:45 am]

BILLING CODE 3710-08-P